DEPARTMENT OF DEFENSE

Office of the Secretary

[Docket ID: DoD-2020-OS-0022]

Privacy Act of 1974; System of Records

AGENCY: Office of the Secretary, Department of Defense (DoD).

ACTION: Rescindment of a System of Records Notice (SORN).

SUMMARY: The Office of the Secretary of Defense (OSD) is rescinding a SORN, Research and Engineering Prize Competition, DSMC 08. This system was used to award cash prizes in recognition of outstanding achievements in basic, advanced, and applied research, technology development, and prototype development.

DATES: This System of Records rescindment is effective upon publication. The system was decommissioned in July 2012, the records retention schedule for these records have been met and the records were destroyed in accordance with the approved retention and disposition schedule.

FOR FURTHER INFORMATION CONTACT: To submit general questions about the rescinded system, please contact Ms. Luz D. Ortiz, Chief, Records, Privacy and Declassification Division (RPDD), 1155 Defense Pentagon, Washington, DC 20301-1155, or by phone at (571) 372-0478.

SUPPLEMENTARY INFORMATION: The application was decommissioned in July 2012, and the records were subsequently destroyed in accordance with the National Archives and Records Administration's approved records retention and disposition schedule. Therefore, this SORN can be deleted.

The OSD notices for Systems of Records subject to the Privacy Act of 1974, as amended, have been published in the Federal Register and are available from the address in FOR FURTHER INFORMATION CONTACT or at the Defense Privacy, Civil Liberties, and Transparency Division website at https://dpcld.defense.gov.

The proposed system reports, as required by the Privacy Act of 1974, as amended, were submitted on December 13, 2019, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Research and Engineering Prize Competition, DSMC 08.

HISTORY:

September 4, 2007, 72 FR 50669.

Dated: February 21, 2020.
Aaron T. Siegel,
Alternate OSD Federal Register Liaison Officer, Department of Defense.

[FR Doc. 2020-03916 Filed 2-26-20; 8:45 am]

BILLING CODE 5001-06-P